DEPARTMENT OF JUSTICE

Notice of Lodging of Consent Decree Pursuant to the Comprehensive Environmental Response, Compensation, and Liability Act

In accordance with Departmental policy, 28 CFR 50.7, notice is hereby given that a consent decree in United States v. Berks Associates et al., Civil Action No. 91-4868 (E.D. Pa.) was lodged on January 19, 2001, with the United States District Court for the Eastern District of Pennsylvania. The consent decree resolves the claims of the United States under section 107(a) of the Comprehensive Environmental Response, Compensation, and Liability Act, as amended (“CERCLA”), 42 U.S.C. 9607(a), for reimbursement of response costs incurred by the U.S. Environmental Protection Agency (“EPA”) in connection with the Douglassville Disposal Superfund Site located in Douglassville, Berks County, Pennsylvania. The settling defendants are Conrail, Cabot Corporation, CSX Transportation, Inc., the Glidden Company, Lehigh Valley Railroad, American Premier Underwriters, Inc., Kimberly Clark Corporation, Shell Oil Company, Southeastern Pennsylvania Transportation Authority, Chevron, and A&A Waste Oil, and Lester Schurr d/b/a Berks Associates, Inc.

In addition, the consent decree resolves counterclaims of the settling defendants against 8 federal agencies including the Departments of Defense, Army, Air Force, Navy, U.S. Coast Guard, U.S. Mint, U.S. Post Office, and the U.S. Government Printing Office.

Under the terms of the consent decree, EPA would receive reimbursement of $13.85 million in costs incurred by EPA at the Site. In addition, the settling defendants (with the exception of Lester Schurr, Berks Associates, and A&A Waste Oil) agree to implement, a soil stabilization remedy at the Site. The settling federal agencies will pay $5,366,922 toward reimbursement of EPA's past response cost and $978,712 toward reimbursement of private party defendant response costs. In addition, the settling federal agencies will pay $3,255,029 toward the implementation of the soil stabilization remedy.

The Department of Justice will receive, for a period of thirty (30) days from the date of this publication, comments relating to the proposed consent decree. Comments should be addressed to the Assistant Attorney General for the Environment and Natural Resources Division, U.S. Department of Justice, Washington, DC 20530, and should refer to United States v. Berks Associates et al. DOJ # 90-11-2-303. The proposed consent decree may be examined at the offices of the United States Attorney, 615 Chestnut Street, Suite 1250, Philadelphia, PA 19106-4476. A copy of the consent decree may also be obtained by mail from the U.S. Department of Justice Consent Decree Library, P.O. Box 7611, Washington, DC 20044. In requesting a copy, please refer to the referenced-case and enclose a check in the amount of $35.50 (25 cents per page reproduction cost exclusive of exhibits), payable to the Consent Decree Library.

Bruce Gelber,
Chief, Environmental Enforcement Section, Environment and Natural Resources Division

[FR Doc. 01-3065 Filed 2-5-01; 8:45 am]

BILLING CODE 4410-15-M